NATIONAL SCIENCE FOUNDATION

Proposal Review Panel for Ocean Sciences

Notice of Meeting

In accordance with the Federal Advisory Committee Act (Pub. L. 92-463, as amended), the National Science Foundation (NSF) announces the following meeting:

Name and Committee Code: Proposal Review Panel for Ocean Sciences OCE (#10752).

Date and Time: February 26-28, 2020; 9:00 a.m. to 5:00 p.m.

Place: JOIDES Resolution Science Operator (JRSO), 1000 Discovery Drive, College Station, TX 77840.

Type of Meeting: Part Open.

Contact Person: James Allan, Program Director, Division of Ocean Science; National Science Foundation, 2415 Eisenhower Avenue, Alexandria, VA 22314; Telephone: (703) 292-8583.

Purpose of Meeting: To provide advice and recommendations regarding Operations and Management of the Drilling Vessel JOIDES Resolution for the International Ocean Discovery Program (IODP) and JR100 program relating to performance in FY2019 under Cooperative Agreement Award 1326927.

Agenda

Wednesday, February 26, 2020

9:00 a.m.-9:15 a.m. NSF and panel introduction

9:15 a.m.-11:00 a.m. Initial Report of the JOIDES Resolution Science Operator (JRSO)—(Open)

11:00 a.m.-12:00 p.m. Co-Chief Review Report for FY2019—(Open)

12:00 p.m.-1:00 p.m. Lunch

1:00 p.m.-3:00 p.m. JRSO response to Co-Chief Review Report—(Open)

3:00 p.m.-4:00 p.m. Meet with JRSO Staff—(Open)

4:00 p.m.-5:00 p.m. Site Visit Panel discussion of presentations and overnight questions to JRSO—(Closed)

Thursday, February 27, 2020

9:00 a.m.-11:00 a.m. JRSO discussion of major challenges and successes in operational context, and how they are responding—(Open)

11:00 a.m.-12:00 p.m. Effectiveness of IODP Programmatic Planning Structure—(Open)

12:00 p.m.-1:00 p.m. Lunch

1:00 p.m.-2:00 p.m. JRSO discussion of major challenges in providing services and innovation to IODP science community, and how they are responding—(Open)

2:00 p.m.-3:00 p.m. Response of JRSO to any remaining Panel questions—(Open)

3:00 p.m.-3:30 p.m. Break

3:30 p.m.-5:00 p.m. Site Visit Panel Discussion on panel report structure and overnight questions to JRSO—(Closed)

Friday, February 28, 2020

9:00 a.m.-10:00 a.m. Site Visit Panel discussion; work on report—(Closed)

10:00 a.m.-11:00 a.m. Response of JRSO to Panel questions—(Open)

11:00 a.m.-12:00 p.m. Site Visit Panel discussion; work on report—(Closed)

12:00 p.m.-1:00 p.m. Lunch—(Closed)

1:00 p.m.-3:30 p.m. Site Visit Panel discussion; work on report—(Closed)

3:30 p.m.-4:00 p.m. Break

4:00 p.m.-5:00 p.m. Site Visit Panel presents report and recommendations to JRSO—(Closed)

Reason for Closing: The program being reviewed during closed portions of the meeting will include information of a proprietary or confidential nature, including technical information; financial data, such as salaries; and personal information concerning individuals associated with the program. These matters are exempt under 5 U.S.C. 552b(c), (4) and (6) of the Government in the Sunshine Act.

Dated: December 12, 2019.
Crystal Robinson,
Committee Management Officer.

[FR Doc. 2019-27180 Filed 12-17-19; 8:45 am]

BILLING CODE 7555-01-P